DEPARTMENT OF JUSTICE

Drug Enforcement Administration

[Docket No. DEA-890]

Importer of Controlled Substances Application: Johnson Matthey Inc.

AGENCY: Drug Enforcement Administration, Justice.

ACTION: Notice of application.

SUMMARY: Johnson Matthey Inc., has applied to be registered as an importer of basic class(es) of controlled substance(s). Refer to Supplementary Information listed below for further drug information.

DATES: Registered bulk manufacturers of the affected basic class(es), and applicants therefore, may file written comments on or objections to the issuance of the proposed registration on or before September 24, 2021. Such persons may also file a written request for a hearing on the application on or before September 24, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 23, 2021, Johnson Matthey Inc., 2003 Nolte Drive, West Deptford, New Jersey 08066-1742, applied to be registered as an importer of the following basic class(es) of controlled substance(s):

Controlled substance | Drug code | Schedule
Nabilone | 7379 | II

The company plans to import Nabilone (7379) in order to accept the return of this controlled substance from a foreign customer who no longer has a demand for this substance. No other activity for this drug code is authorized for this registration.

Brian S. Besser,
Acting Assistant Administrator.

[FR Doc. 2021-18238 Filed 8-24-21; 8:45 am]

BILLING CODE P